FEDERAL COMMUNICATIONS COMMISSION

[OMB 3060-1223; FR ID 78823]

Information Collection Being Reviewed by the Federal Communications Commission

AGENCY: Federal Communications Commission.

ACTION: Notice; correction.

SUMMARY: The Federal Communications Commission published a document in the Federal Register of November 16, 2021 (86 FR 56713), concerning a request for comments for the information collection Payment Instructions from the Eligible Entity Seeking Reimbursement from the TV Broadcaster Relocation Fund. The document omitted the dates, addresses and for further information sections from this notice.

Correction

In the Federal Register of November 16, 2021, in FR Document 2021-24912, on page 63381, in the first column, correct the Dates, Addresses and For Further Information Contact caption to read as follows:

DATES: Written PRA comments should be submitted on or before May 31, 2022. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

Federal Communications Commission.
Marlene Dortch,
Secretary, Office of the Secretary.

[FR Doc. 2022-06603 Filed 3-28-22; 8:45 am]

BILLING CODE 6712-01-P